SECURITIES AND EXCHANGE COMMISSION

[Release No. 34-43024; File No. SR-AMEX-00-35]

Self-Regulatory Organizations; Notice of Filing and Immediate Effectiveness of Proposed Rule Change by the American Stock Exchange LLC Relating to Index Fund Shares (Amex Rules 1000A and 127)

July 12, 2000.

Pursuant to Section 19(b)(1) of the Securities Exchange Act of 1934 (“Act”),¹ and Rule 19b-4 thereunder,² notice is hereby given that on June 30, 2000, the American Stock Exchange Inc. (“Amex” or “Exchange”) filed with the Securities and Exchange Commission (“SEC” or “Commission”) the proposed rule change as described in Items I, II, and III below, which items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to add Commentary .04 to Amex Rule 1000A (Index Fund Shares) regarding hours of trading for iShares Index Funds and iShares MSCI Index Funds; and to amend Commentary .02 to Amex Rule 127 (Minimum Fractional Changes), relating to these securities. Below is the text of the proposed rule change: New language is italicized, and deletions are bracketed.

Index Fund Shares

Rule 1000A

* * * Commentary

[.02] .04 Transactions in [series of the] iShares ℠ Index Funds of the iShares Trust may be effected until 4:15 p.m. (New York Time) each business day. Transactions in iShares MSCI Index Funds (formerly “WEBS Index Series”) of iShares, Inc. may be effected until 4:00 p.m. (New York Time).

* * * * *

Minimum Fractional Changes

Rule 127

* * * Commentary

.02 The minimum fractional change for dealings in Index Fund Shares listed under Rule 1000A et seq. shall be 1/16 of $1.00. However, the minimum fractional change for dealings in Select Sector SPDRs ℠, Technology 100 Index Fund Shares and [series of] iShares℠ Index Funds of the Shares ℠ Trust shall be 1/64 of $1.00. Transactions in iShares MSCI Index Funds (formerly WEBS Index Series) of iShares, Inc. shall be 1/16 of $1.00.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in Sections A, B, and C below, of the most significant aspects of such statements.

A. Self-Regulatory Organization's Statement of the Purpose of, and Statutory Basis for, the Proposed Rule Change

1. Purpose

In File No. SR-Amex-99-49,³ the Commission approved Commentary .02 to Amex Rule 1000A, which provided that transactions in series of the iShares Trust may be effected until 4:15 p.m. each business day. The Exchange is renumbering this Commentary .02 to Commentary .04 to eliminate conflict with Commentary .02 to Amex Rule 1000A, approved by the Commission in SR-Amex-00-14 relating to generic listing criteria for Index Fund Shares.⁴ The Exchange is further amending new Commentary .04 to distinguish between: (1) iShares MSCI Index Funds, (formerly WEBS Index Series), and (2) iShares Index Funds of the iShares Trust. As of May 15, 2000, WEBS Index Series have been renamed iShares MSCI Index Funds and WEBS Index Fund, Inc. has been renamed iShares, Inc. iShares MSCI Index Funds trade until 4:00 p.m. (New York time). However, iShares Index Funds of the iShares Trust, which do not include iShares MSCI Index Funds, trade until 4:15 p.m. (New York time). Commentary .04 to Amex rule 1000A states the different trading hours for these securities.

³ See Securities Exchange Act Release No. 42786 (May 15, 2000), 65 FR 33586 (May 24, 2000).

⁴ See Securities Exchange Act Release No. 42786 (May 15, 2000), 65 FR 33598 (May 24, 2000).

In File No. SR-Amex-99-49, the Commission also approved an amendment to Commentary .02 to Amex Rule 127 (Minimum Fractional Changes), to provide that trading in series of the iShares Trust will be in increments of 1/64 ⁵ Commentary .02 is amended to refer to these securities as “ishares SM Index Funds of the iShares Trust.” MSCI Index Funds trade in 1/16's, the same trading increment as the former WEBS Index Series. The Exchange is amending Commentary .02 to Amex Rule 127 to clarify the different trading increments between these securities.

⁵ See supra note 3.

The Exchange represents that these amendments to Amex Rules 1000A and 127 are strictly clarifying in nature and provide no change from existing hours of trading or trading increments for these securities.

2. Statutory Basis

The Exchanges believes the proposed rule change is consistent with Section 6(b) ⁶ of the Act in general and furthers the objectives of Section 6(b)(5) ⁷ in particular in that is it designed to prevent fraudulent and manipulative acts and practices, to promote just and equitable principles of trade, to foster cooperation and coordination with persons engaged in regulating, clearing, settling, processing information with respect to, and facilitating transactions in securities, and, in general, to protect investors and the public interest.

⁶ 15 U.S.C. 78f.

⁷ 15 U.S.C. 78f(b)(5).

B. Self-Regulatory Organization's Statement on Burden on Competition

The Exchange represents that the proposed rule change will impose no burden on competition.

C. Self-Regulatory Organization's Statement on Comments on the Proposed Rule Change Received From Members, Participants or Others

No written comments were solicited or received with respect to the proposed rule change.

III. Date of Effectiveness of the Proposed Rule Change and Timing for Commission Action

The foregoing proposed rule change has become effective pursuant to Section 19(b)(3)(A) of the Act ⁸ and Rule 19b-4(f)(3) thereunder⁹ because the proposed rule change is concerned solely with the administration of the Exchange. At any time within 60 days of the filing of the proposed rule change, the Commission may summarily abrogate such rule change if it appears to the Commission that such action is necessary or appropriate in the public interest, for the protection of investors, or otherwise in the furtherance of the purposes of the Act.¹⁰

⁸ 15 U.S.C. 78s(b)(3)(A).

⁹ 17 CFR 240.19b-4(f)(3).

¹⁰ 15 U.S.C. 78s(b)(3)(C).

IV. Solicitation of Comments

Interested persons are invited to submit written data, views, and arguments concerning the foregoing, including whether the proposed rule change is consistent with the Act. Persons making written submissions should file six copies thereof with the Secretary, Securities and Exchange Commission, 450 Fifth Street, N.W., Washington, D.C. 20549-0609. Copies of the submission, all subsequent amendments, all written statements with respect to the proposed rule change that are filed with the Commission, and all written communications relating to the proposed rule change between the Commission and any person, other than those that may be withheld from the public in accordance with the provisions of 5 U.S.C. 552, will be available for inspection and copying at the Commission's Public Reference Room. Copies of such filing will also be available for inspection and copying at the principal office of the Exchange. All submissions should refer to File No. SR-AMEX-00-35 and should be submitted by August 8, 2000.

¹¹ 17 CFR 200.30-3(a)(12).

For the Commission, by the Division of Market Regulation, pursuant to delegated authority.¹¹
Margaret H. McFarland,
Deputy Secretary.

[FR Doc. 00-18069 Filed 7-17-00; 8:45 am]

BILLING CODE 8010-01-M